ENVIRONMENTAL PROTECTION AGENCY

40 CFR Part 52

[EPA-R9-OAR-2011-0130; FRL 9667-7]

State of Nevada; Regional Haze State and Federal Implementation Plans; BART Determination for Reid Gardner Generating Station

AGENCY: Environmental Protection Agency (EPA).

ACTION: Announcement of second public hearing and extension of public comment period.

SUMMARY: In addition to the public hearing previously scheduled for this action, EPA is holding a second public hearing at a different location earlier in the day on May 3, 2012. The public hearings are for the proposed rule, “Approval and Promulgation of Air Quality Implementation Plans; State of Nevada; Regional Haze State and Federal Implementation Plans; BART Determination for Reid Gardner Generating Station.” EPA also is extending the closing date of the public comment period for the proposed rule to June 4, 2012 to allow for 30 days of public comment following the public hearings.

DATES: The second public hearing is on May 3, 2012. Any comments on this proposal are due by June 4, 2012.

ADDRESSES: Public hearings: EPA will hold a second public hearing at the Big Auditorium in the Moapa Band of Paiutes Administration Building on 1 Lincoln Street (cross street is Reservation Road) in Moapa, Nevada.

In a previous Federal Register notice published on April 18, 2012 (77 FR 23191), EPA announced a public hearing in Ron Dalley Theater at the Moapa Valley Empowerment High School on 2400 St. Joseph Street in Overton, Nevada, with an open house at the same location. This hearing will proceed as scheduled. Additional information about both hearings is provided in SUPPLEMENTARY INFORMATION.

Public comments: Submit your comments, identified by Docket ID No. EPA-R09-OAR-2011-0130 by one of the following methods:

1. Federal Rulemaking portal: http://www.regulations.gov. Follow the on-line instructions for submitting comments.

2. Email: Webb.Thomas@epa.gov.

3. Fax: 415-947-3579 (Attention: Thomas Webb).

4. Mail: Thomas Webb, EPA Region 9, Planning Office, Air Division, 75 Hawthorne Street, San Francisco, California 94105.

5. Hand Delivery or Courier: Such deliveries are only accepted Monday through Friday, 8:30 a.m.-4:30 p.m., excluding federal holidays. Special arrangements should be made for deliveries of boxed information.

For detailed instructions concerning how to submit comments on this proposed rule, see the previous Federal Register notice of proposed rulemaking published on April 12, 2012 (77 FR 21896, 21897). The EPA Region 9 web site for the rulemaking, which includes the proposal and information about the public hearings, is at http://www.epa.gov/region9/air/actions/nv.html#reid.

FOR FURTHER INFORMATION CONTACT: If you have questions about the public hearings, please contact Thomas Webb, EPA Region IX at 415-947-4139 or Webb.Thomas@epa.gov. If you require a reasonable accommodation, please contact Terisa Williams, EPA Region IX Reasonable Accommodations Coordinator at 415-972-3829, or Williams.Terisa@epa.gov.

SUPPLEMENTARY INFORMATION: Public hearings: The public hearings are to provide the public with an opportunity to present oral comments regarding proposed Regional Haze State and Federal Implementation Plans for the determination of Best Available Retrofit Technology at the Reid Gardner Generating Station in the State of Nevada. The proposed rule requires the Reid Gardner Generating Station to meet an emissions limit for oxides of nitrogen at Units 1, 2 and 3 of 0.20 lbs/MMBtu on a 30-day rolling average.

Details about the two hearings are as follows:

1. In a previous Federal Register notice published on April 18, 2012, EPA announced a public hearing in Ron Dalley Theater at the Moapa Valley Empowerment High School on 2400 St. Joseph Street in Overton, Nevada from 6:30 p.m. to 8:30 p.m. on May 3, 2012, with an open house at the same location from 5 to 6 p.m. This hearing will proceed as scheduled. We are holding two public hearings on the same day at different times and locations for the convenience of the public.

2. EPA will hold a second public hearing at the Big Auditorium in the Moapa Band of Paiutes Administration Building on 1 Lincoln Street (cross street is Reservation Road) in Moapa, Nevada. The formal hearing will begin at 1 p.m. and end at 4 p.m. An informational open house at the same location will precede the public hearing from 11:30 a.m. to 12:30 p.m. We will not record public comments at the open house.

The proposed rule (77 FR 21896, Apr. 12, 2012) for which EPA will hold the public hearings is available at http://www.epa.gov/region9/air/actions/nv.html#reid and also in the docket identified below. The public hearings will provide interested parties the opportunity to present data, views, or arguments concerning the proposal. EPA may ask clarifying questions during the oral presentations, but will not respond to the presentations at that time. We will consider written statements and supporting information submitted during the comment period with the same weight as any oral comments and supporting information presented at the public hearings. At the public hearings, the hearing officer may limit the time available for each commenter to address the proposal to five minutes or less if the hearing officer determines it is appropriate. We will not provide equipment for commenters to show overhead slides or make computerized slide presentations. Any person may provide written or oral comments and data pertaining to our proposal at the public hearings. We will include verbatim transcripts, in English, of the hearing and written statements in the rulemaking docket.

Extension of comment period: EPA is extending the public comment period for the proposed rule to align with the dates of the public hearings. The comment period will now end on June 4, 2012, 30 days after the public hearings.

EPA has established a docket for the proposed rule under Docket ID No. EPA-R09-OAR-2011-0130 (available at http://www.regulations.gov).

Dated: April 25, 2012.
Deborah Jordan,
Air Division Director, Region IX.

[FR Doc. 2012-10589 Filed 4-30-12; 8:45 am]

BILLING CODE 6560-50-P